DEPARTMENT OF TRANSPORTATION

Federal Transit Administration

[Docket No. FTA-2009-0002]

Notice of Buy America Waiver Request by ElDorado National for Minivan Chassis

AGENCY: Federal Transit Administration (FTA), DOT.

ACTION: Notice of Buy America waiver request and call for comments.

SUMMARY: Several parties have asked the Federal Transit Administration to waive its Buy America requirements of 49 CFR 661.11 for the purchase of minivans that are manufactured or assembled outside the United States. According to these parties, minivans and minivan chassis are not available from a domestic source. FTA seeks public comment before deciding whether to grant these requests. If granted, a waiver would apply to all minivans and minivan chassis, not only those manufactured by Chrysler.

DATES: Comments must be received by April 16, 2009. Late-filed comments will be considered to the extent practicable.

ADDRESSES: Please submit your comments by one of the following means, identifying your submissions by docket number FTA-2009-0002. All electronic submissions must be made to the U.S. Government electronic site at http://www.regulations.gov. Commenters should follow the instructions below for mailed and hand-delivered comments.

(1) Web Site: http://www.regulations.gov. Follow the instructions for submitting comments on the U.S. Government electronic docket site;

(2) Fax: (202) 493-2251;

(3) Mail: U.S. Department of Transportation, 1200 New Jersey Avenue, SE., Docket Operations, M-30, Room W12-140, Washington, DC, 20590-0001.

(4) Hand Delivery: Room W12-140 on the first floor of the West Building, 1200 New Jersey Avenue, SE., Washington, DC, 20590, between 9 a.m. and 5 p.m., Monday through Friday, except Federal holidays.

Instructions: All submissions must make reference to the “Federal Transit Administration” and include docket number FTA-2009-0002. Due to security procedures in effect since October 2001, mail received through the U.S. Postal Service may be subject to delays. Parties making submissions responsive to this notice should consider using an express mail firm to ensure the prompt filing of any submissions not filed electronically or by hand. Note that all submissions received, including any personal information therein, will be posted without change or alteration to http://www.regulations.gov. For more information, you may review DOT's complete Privacy Act Statement in the Federal Register published on April 11, 2000 (65 FR 19477), or visit http://www.regulations.gov.

FOR FURTHER INFORMATION CONTACT: For questions please contact Jayme L. Blakesley at (202) 366-0304 or jayme.blakesley@dot.gov.

SUPPLEMENTARY INFORMATION:

The purpose of this notice is to seek public comment on whether the Federal Transit Administration should waive its Buy America requirements of 49 CFR part 661 for minivans and minivan chassis that are manufactured or assembled outside the United States. Such waiver would apply to the domestic content and final assembly requirements of 49 CFR 661.11.

ElDorado National, Kansas, has asked FTA to waive its Buy America requirements, on the basis of non-availability, for minivan chassis manufactured and assembled by Chrysler in Ontario, Canada. ElDorado National uses Chrysler minivan chassis to manufacture its Amerivan lowered-floor minivans. In its request for a waiver, a copy of which has been placed in the Docket, ElDorado National asserts that General Motors and Chrysler minivan chassis, including those used on the Chevrolet Uplander, Pontiac Montana, Buick Terraza, Saturn Relay, Chrysler Town & Country, and Dodge Grand Caravan, are no longer manufactured in the United States.

In addition to ElDorado National, FTA has received a number of inquiries from its grantees about the availability of minivans from a domestic source. According to these grantees, minivans are no longer available from a source that can comply with FTA's Buy America requirements.

With certain exceptions, FTA's “Buy America” requirements prevent FTA from obligating an amount that may be appropriated to carry out its program for a project unless “the steel, iron, and manufactured goods used in the project are produced in the United States.” 49 U.S.C. 5323(j)(1). One exception, however, is if “the steel, iron, and goods produced in the United States are not produced in a sufficient and reasonably available amount or are not of a satisfactory quality.” 49 U.S.C. 5323(j)(2)(B).

FTA notes that, unlike with public interest waivers, it is not required to publish a notice in the Federal Register before waiving its Buy America requirements on the basis of non-availability. In this instance, however, FTA is proceeding with an abundance of caution. In order to understand completely the facts surrounding the ElDorado National's request, FTA seeks comment from all interested parties regarding the availability of domestically manufactured minivans and minivan chassis. If granted, a waiver would apply to all minivans and minivan chassis, not only those manufactured by Chrysler. A full copy of ElDorado National's petition has been placed in docket number FTA-2009-0002.

Issued this 26th day of March, 2009.
Scott A. Biehl,
Acting Chief Counsel.

[FR Doc. E9-7372 Filed 4-1-09; 8:45 am]

BILLING CODE